NATIONAL AERONAUTICS AND SPACE ADMINISTRATION

[Notice (02-087)]

NASA Advisory Council, Space Science Advisory Committee; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council (NAC), Space Science Advisory Committee (SScAC).

DATES: Monday, August 5, 2002, 8:30 a.m. to 5:30 p.m., Tuesday, August 6, 2002, 8:30 a.m. to 5:30 p.m., and Wednesday, August 7, 2002, 8:30 a.m. to Noon.

ADDRESSES: NASA Headquarters, located at 300 E Street, SW., Washington, DC 20546, room 5H46 on August 5 and 6, and room 9H40 on August 7.

FOR FURTHER INFORMATION CONTACT: Ms. Marian R. Norris, Code SB, National Aeronautics and Space Administration, Washington, DC 20546, (202) 358-4452.

SUPPLEMENTARY INFORMATION: The meeting will be open to the public up to the capacity of the room. The agenda for the meeting includes the following topics:

—Associate Administrator's Report

—Division and Program Directors' Reports

—Subcommittee Roadmap Reports

—Reports on the National Research Council's Decadal Surveys for Solar System Exploration and Sun-Earth Connection

—Discussion of Science Program Outcomes for the FY02 Government Performance and Results Act Assessment

—Report on the Education and Public Outreach Task Force

It is imperative that the meeting be held on these dates to accommodate the scheduling priorities of the key participants. Any member of the public may file a written statement with the Committee; such statements should be provided to the contact above no later than five working days before the meeting. Visitors to the meeting will be requested to sign a visitor's register.

Dated: July 9, 2002.
Sylvia K. Kraemer,
Advisory Committee Management Officer, National Aeronautics and Space Administration.

[FR Doc. 02-17594 Filed 7-11-02; 8:45 am]

BILLING CODE 7510-01-P